DEPARTMENT OF HEALTH AND HUMAN SERVICES

National Institutes of Health

Government-Owned Inventions; Availability for Licensing

AGENCY: National Institutes of Health.

ACTION: Notice.

SUMMARY: The inventions listed below are owned by an agency of the U.S. Government and are available for licensing in the U.S. in accordance with 35 U.S.C. 209 and 37 CFR part 404 to achieve expeditious commercialization of results of federally-funded research and development.

FOR FURTHER INFORMATION CONTACT: Licensing information may be obtained by emailing the indicated licensing contact at the National Heart, Lung, and Blood, Office of Technology Transfer and Development Office of Technology Transfer, 31 Center Drive Room 4A29, MSC2479, Bethesda, MD 20892-2479; telephone: 301-402-5579. A signed Confidential Disclosure Agreement may be required to receive any unpublished information.

SUPPLEMENTARY INFORMATION: Technology description follows.

Albumin Binding Immunomodulatory Compositions

The invention relates to molecules wherein Evan's Blue dye is chemically conjugated to CpG Oligonucleotides that elicit anti-tumoral or infection fighting immunity. Evans Blue, a symmetric azo dye, has high binding affinity to albumin. Albumin binding ability of Evans blue is utilized with CpGs and tumor-specific antigens, in order to leverage endogenous albumin that increases the safety and the potency of molecular vaccines. As such, the molecular entities provided here enable efficient delivery and prolonged retention in lymph nodes and reduce systemic toxicity of Evans Blue and enhanced the therapeutic potency of molecular vaccines.

Potential Commercial Applications:

• Cancer therapeutics

• Infectious disease therapeutics

• Lymph node specificity

• Higher stability/Lower toxicity

Development Stage:

• Early stage

Inventors: Xiaoyuan Chen and Guizhi Zhu (both of NIBIB).

Intellectual Property: HHS Reference No. E-149-2016/0; U.S. Provisional Patent Applications 62/331,890 filed May 4, 2016.

Licensing Contact: Michael Shmilovich, Esq, CLP; 301-435-5019; shmilovm@mail.nih.gov.

Dated: May 26, 2016.
Michael Shmilovich,
Senior Licensing and Patenting Manager, National Heart, Lung, and Blood Institute, Office of Technology Transfer and Development.

[FR Doc. 2016-12892 Filed 6-1-16; 8:45 am]

BILLING CODE 4140-01-P